DEPARTMENT OF ENERGY

Federal Energy Regulatory Commission

[Project No. 2814-024]

City of Paterson, New Jersey, Great Falls Hydroelectric Company; Notice of Intent To File License Application, Filing of Pre-Application Document, and Approving Use of the Traditional Licensing Process

a. Type of Filing: Notice of Intent to File License Application and Request to Use the Traditional Licensing Process.

b. Project No.: 2814-024.

c. Date Filed: February 26, 2016.

d. Submitted By: The City of Paterson, New Jersey and Great Falls Hydroelectric Company, as co-licensees.

e. Name of Project: Great Falls Hydroelectric Project.

f. Location: On the Passaic River near the city of Paterson, New Jersey. The project does not occupy federal land.

g. Filed Pursuant to: 18 CFR 5.3 of the Commission's regulations.

h. Potential Applicant Contact: Mr. Robert Gates, Senior Vice President of Operations, Eagle Creek Renewable Energy, 65 Madison Avenue, Suite 500, Morristown, NJ 07960; (973) 998-8400; email—bob.gates@eaglecreekre.com.

i. FERC Contact: Christopher Millard at (202) 502-8256; or email at christopher.millard@ferc.gov.

j. The City of Paterson, New Jersey and Great Falls Hydroelectric Company, as co-licensees, filed a request to use the Traditional Licensing Process on February 26, 2016. The City of Paterson, New Jersey and Great Falls Hydroelectric Company provided public notice of the request on March 9, 2016. In a letter dated June 10, 2016, the Director of the Division of Hydropower Licensing approved the City of Paterson, New Jersey and Great Falls Hydroelectric Company's request to use the Traditional Licensing Process.

k. With this notice, we are initiating informal consultation with the U.S. Fish and Wildlife Service and/or NOAA Fisheries under section 7 of the Endangered Species Act and the joint agency regulations thereunder at 50 CFR, part 402; and NOAA Fisheries under section 305(b) of the Magnuson-Stevens Fishery Conservation and Management Act and implementing regulations at 50 CFR 600.920. We are also initiating consultation with the New Jersey State Historic Preservation Officer, as required by section 106, National Historic Preservation Act, and the implementing regulations of the Advisory Council on Historic Preservation at 36 CFR 800.2.

l. With this notice, we are designating the City of Paterson, New Jersey and Great Falls Hydroelectric Company as the Commission's non-federal representatives for carrying out informal consultation pursuant to section 7 of the Endangered Species Act and section 106 of the National Historic Preservation Act.

m. The City of Paterson, New Jersey and Great Falls Hydroelectric Company filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

o. The licensee states its unequivocal intent to submit an application for a new license for Project No. 2814-024. Pursuant to 18 CFR 16.8, 16.9, and 16.10, each application for a new license and any competing license applications must be filed with the Commission at least 24 months prior to the expiration of the existing license. All applications for license for this project must be filed by February 28, 2019.

p. Register online at http://www.ferc.gov/docs-filing/esubscription.asp to be notified via email of new filing and issuances related to this or other pending projects. For assistance, contact FERC Online Support.

Dated: June 10, 2016.
Nathaniel J. Davis, Sr.,
Deputy Secretary.

[FR Doc. 2016-14221 Filed 6-15-16; 8:45 am]

BILLING CODE 6717-01-P